OFFICE OF NATIONAL DRUG CONTROL POLICY

Designation of Thirteen Counties as High Intensity Drug Trafficking Areas

AGENCY: Office of National Drug Control Policy.

ACTION: Notice of High Intensity Drug Trafficking Areas (HIDTA) Designations.

SUMMARY: The Director of the Office of National Drug Control Policy designated thirteen additional counties as High Intensity Drug Trafficking Areas pursuant to 21 U.S.C. 1706. The new counties are (1) Bradley County in Tennessee, Dickenson County in Virginia, and Wyoming and Raleigh Counties in West Virginia as part of the Appalachia HIDTA; (2) Rockingham County in North Carolina, and Florence and Horry Counties in South Carolina as part of the Atlanta-Carolinas HIDTA (formerly known as “Atlanta HIDTA”); (3) Forrest County in Mississippi as part of the Gulf Coast HIDTA; (4) Williams County in North Dakota as part of the Midwest HIDTA; (5) Humboldt County in California as part of the Northern California HIDTA; and (6) Cecil and Frederick Counties in Maryland and Roanoke County in Virginia as part of the Washington/Baltimore HIDTA.

FOR FURTHER INFORMATION CONTACT: Questions regarding this notice should be directed to Michael K. Gottlieb, National HIDTA Program Director, Office of National Drug Control Policy, Executive Office of the President, Washington, DC 20503; (202) 395-4868.

Dated: January 15, 2014.
Daniel S. Rader,
Deputy General Counsel.

[FR Doc. 2014-01089 Filed 1-21-14; 8:45 am]

BILLING CODE 3280-F4-P